DEPARTMENT OF AGRICULTURE

Food Safety and Inspection Service

[Docket No. FSIS-2010-0024]

Codex Alimentarius Commission: Meeting of the Codex Committee on Residues of Veterinary Drugs in Food

AGENCY: Office of the Acting Under Secretary for Food Safety, USDA.

ACTION: Notice of public meeting and request for comments.

SUMMARY: The Office of the Acting Under Secretary for Food Safety, U.S. Department of Agriculture (USDA), and the U.S. Food and Drug Administration (FDA), Center for Veterinary Medicine, are sponsoring a public meeting on August 16, 2010. The objective of the public meeting is to provide information and receive public comments on agenda items and draft U.S. positions that will be discussed at the 19th Session of the Codex Committee on Residues of Veterinary Drugs in Foods (CCRVDF), which will be held in Burlington, Vermont, from August 30-September 3, 2010. The Acting Under Secretary for Food Safety and the FDA recognize the importance of providing interested parties the opportunity to obtain background information on the 19th CCRVDF session and to address items on the agenda.

DATES: The public meeting is scheduled for August 16, 2010, from 1 p.m.-4 p.m.

ADDRESSES: The public meeting will be held at USDA, J.L. Whitten Building, Room 107-A, 1400 Independence Avenue, SW., Washington, DC 20250.

Conference Call Information:

Call-In#: 1-866-692-3158.

Passcode: 5986642.

Documents related to the 19th Session of the CCRVDF will be accessible via the World Wide Web at the following address: http://www.codexalimentarius.net/current.asp.

The U.S. Delegate to the 19th Session of the CCRVDF, Dr. Kevin Greenlees, and the FDA invite U.S. interested parties to submit their comments electronically to the following e-mail address: Brandi.Robinson@fda.hhs.gov.

For further information about the 19th session of the CCRVDF contact: Dr. Kevin Greenlees, Senior Advisor for Science & Policy, Office of New Animal Drug Evaluation, HFV-100 USFDA Center for Veterinary Medicine, 7520 Standish Place, Rockville, MD 20855, Telephone: (240) 276-8214, Fax: (240) 276-9538, e-mail: Kevin.Greenlees@fda.hhs.gov

For further information about the public meeting, contact: Ken Lowery, International Issues Analyst, USDA, Food Safety and Inspection Service, U.S. Codex Office, 1400 Independence Avenue, SW., Room 4861, Washington, DC 20250, Telephone: (202) 690-4042, Fax: (202) 720-3157, e-mail: Kenneth.Lowery@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers andensure fair practices in the food trade.

The CCRVDF is responsible for determining priorities for the consideration of residues of veterinary drugs in foods, recommending maximum levels of such substances, developing codes of practice as may be required, and considering methods of sampling and analysis for the determination of veterinary drug residues in foods.

The Committee is hosted by the United States.

Issues To Be Discussed at the Public Meeting

The following items on the agenda for the 19th Session of the CCRVDF will be discussed during the public meeting:

• Matters referred by the Codex Alimentarius Commission and other Codex committees and task forces.

• Matters arising from FAO/WHO.

• Report of the World Organization For Animal Health (OIE) activities, including the harmonization of technical requirements for registration of veterinary medicinal products.

• Draft Maximum Residue Limits (MRL) for veterinary drugs (at Step 7).

• Discussion paper on methods of analysis for residues of veterinary drugs in foods.

• Draft priority list of veterinary drugs requiring evaluation or re-evaluation by the Joint FAO/WHO Expert Committee on Food Additives (JECFA).

• Factors related to the establishment of Acceptable Dietary Intake (ADI) and the process of recommending MRLs.

• Risk management recommendations for veterinary drugs for which no ADI and MRL has been recommended by JECFA.

• Discussion paper on veterinary drugs in honey production.

• Discussion paper on sampling plan for residue control for aquatic animal products and derived edible products of aquatic origin.

Public Meeting

At the August 16, 2010, public meeting, draft U.S. positions on the agenda items will be described and discussed, and attendees will have the opportunity to pose questions and offer comments. Written comments may be offered at the meeting or sent to the U.S. Delegate for the 19th Session of the CCRVDF, Dr. Kevin Greenlees (see ADDRESSES). Written comments should state that they relate to activities of the 19th Session of the CCRVDF.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape) should contact USDA's Target Center at 202-720-2600 (voice and TTY).

To file a written complaint of discrimination, write USDA, Office of the Assistant Secretary for Civil Rights, 1400 Independence Avenue, SW., Washington, DC 20250-9410 or call 202-720-5964 (voice and TTY). USDA is an equal opportunity provider and employer.

Additional Public Notification

Public awareness of all segments of rulemaking and policy development is important. Consequently, in an effort to ensure that minorities, women, and persons with disabilities are aware of this notice, FSIS will announce it online through the FSIS Web page located at http://www.fsis.usda.gov/regulations/2010_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through Listserv and the Web page, FSIS is able to provide information to a much broader and more diverse audience. In addition, FSIS offers an electronic mail subscription service that provides automatic and customized access to selected food safety news and information. This service is available at http://www.fsis.usda.gov/news_and_events/email_subscription/. Options range from recalls to export information to regulations, directives, and notices. Customers can add or delete subscriptions themselves, and have the option to password protect their accounts.

Done at Washington, DC on: August 10, 2010.
Karen Stuck,
U.S. Manager for Codex Alimentarius.

[FR Doc. 2010-20011 Filed 8-10-10; 4:15 pm]

BILLING CODE 3410-DM-P